ENVIRONMENTAL PROTECTION AGENCY

[FRL-8555-7]

Science Advisory Board Staff Office; Notification of a Meeting of the Science Advisory Board's Advisory Council on Clean Air Compliance Analysis (Council)

AGENCY: Environmental Protection Agency (EPA).

ACTION: Notice.

SUMMARY: The EPA Science Advisory Board (SAB) Staff Office announces a public face-to-face meeting of the Advisory Council on Clean Air Compliance Analysis (Council).

DATES: The meeting dates are Thursday, May 8, 2008, from 8:30 a.m. to 5 p.m. and Friday, May 9, 2008, from 8:30 a.m. to 3 p.m. (Eastern Time).

ADDRESSES: The meeting will be held at the SAB Conference Center at 1025 F Street, NW., Suite 3700, Washington, DC 20004.

FOR FURTHER INFORMATION CONTACT: Members of the public who wish to obtain further information about this meeting may contact Dr. Holly Stallworth, Designated Federal Officer (DFO), EPA Science Advisory Board Staff Office (1400F), U.S. Environmental Protection Agency, 1200 Pennsylvania Avenue, NW., Washington, DC 20460; by telephone/voice mail: (202) 343-9867 or at stallworth.holly@epa.gov. General information about the SAB, as well as any updates concerning the meeting announced in this notice, may be found on the SAB Web Site at: http://www.epa.gov/sab.

SUPPLEMENTARY INFORMATION: Background: The Advisory Council on Clean Air Compliance Analysis (Council) is a Federal advisory committee chartered under the Federal Advisory Committee Act (FACA), as amended, 5 U.S.C., App. The Council is charged with providing advice, information and recommendations to the Agency on the economic issues associated with programs implemented under the Clean Air Act and its Amendments. Pursuant to a requirement under Section 812 of the 1990 Clean Air Act Amendments, EPA conducts periodic studies to assess the benefits and the costs of the Clean Air Act. The Council has been the chief reviewing body for these studies and has issued advice on a retrospective study issued in 1997, a prospective study issued in 1999 and since 2001, analytic blueprints for a second prospective study on the costs and benefits of clean air programs covering the years 1990-2020.

On May 9, 2008, the Council will review a case study entitled “Section 812 Prospective Study of the Benefits and Costs of the Clean Air Act: Air Toxics Case Study—Health Benefits of Benzene Reductions in Houston, 1990-2020.” This case study presents a methodology for assessing the benefits of reducing benzene levels in the Houston, Texas, area over 30 years. EPA's Office of Air and Radiation (OAR) conducted this case study (posted at http://www.epa.gov/air/sect812/prospective2.html#mar08/) as part of the second prospective study on the costs and benefits of the Clean Air Act programs being developed by EPA's Office of Air and Radiation (OAR).

EPA's OAR has also requested the Council's advice on using results of a recently conducted expert elicitation in the regulatory context of a benefits assessment conducted as part of a regulatory impact analysis for a regulation promulgated in 2006. To better characterize uncertainty in the health benefits of particulate matter reductions, EPA's Office of Air and Radiation undertook an expert elicitation study in 2005-2006 to characterize the uncertainty in the concentration-response function for premature mortality related to particulate matter, specifically PM2.5. EPA applied the results of this study to develop probabilistic estimates of reductions in premature mortality as part of its regulatory impact analysis for the 2006 National Ambient Air Quality Standards for Particle Pollution. The Council's review will focus on Chapter 5 and the Executive Summary of the regulatory impact analysis found at http://www.epa.gov/ttn/ecas/regdata/RIAs/Chapter%205—Benefits.pdf. The Council, augmented with additional experts, will conduct this review on May 8, 2008. The SAB Staff Office described a process for identifying experts for this advisory activity in the Federal Register on June 28, 2007 (72 FR 35463-35465).

The meeting agenda for May 8-9, 2008 and any background materials will be posted on the Council area (http://www.epa.gov/advisorycouncilcaa) of the SAB Web Site prior to the meeting.

Technical Contacts: The OAR technical contact for the benzene case study is Ms. Jeneva Craig at (202) 564-1674 or craig.jeneva@epa.gov. The technical contact for the review of the application of the PM-Mortality expert elicitation is Ms. Lisa Conner at (919) 541-5060 or conner.lisa@epa.gov.

Availability of Meeting Materials: Materials in support of this meeting will be placed on the on the Council area (http://www.epa.gov/advisorycouncilcaa) of the SAB Web site in advance of this meeting.

Procedures for Providing Public Input: Interested members of the public may submit relevant written or oral information for the Council to consider on the topics included in this advisory activity or the group providing advice on the benzene case study. Oral Statements: In general, individuals or groups requesting an oral presentation at a public meeting will be limited to five minutes per speaker, with no more than one hour for all speakers. Interested parties should contact Dr. Stallworth at the contact information provided above by May 1, 2008, to be placed on the public speaker list for the May 8-9, 2008 meeting. Written Statements: Written statements should be received in the SAB Staff Office by May 1, 2008, so that the information may be made available to the Council for their consideration prior to this meeting. Written statements should be supplied to the DFO via e-mail to stallworth.holly@epa.gov (acceptable file format: Adobe Acrobat PDF, WordPerfect, MS Word, MS PowerPoint, or Rich Text files in IBM-PC/Windows 98/2000/XP format).

Accessibility: For information on access or services for individuals with disabilities, please contact Dr. Holly Stallworth at (202) 343-9867, or via e-mail at stallworth.holly@epa.gov. To request accommodation of a disability, please contact Dr. Stallworth, preferably at least 10 days prior to the meeting, to give EPA as much time as possible to process your request.

Dated: April 11, 2008.
Anthony Maciorowski,
Deputy Director, EPA Science Advisory Board Staff Office.

[FR Doc. E8-8393 Filed 4-17-08; 8:45 am]

BILLING CODE 6560-50-P